DEPARTMENT OF DEFENSE

Office of the Secretary

Renewal of Department of Defense Federal Advisory Committees

AGENCY: Department of Defense.

ACTION: Notice.

SUMMARY: Under the provisions of 10 U.S.C. 7102(d) and the Federal Advisory Committee Act of 1972, (5 U.S.C. Appendix), the Government in the Sunshine Act of 1976 (5 U.S.C. 552b), and 41 CFR 102-3.50(a), the Department of Defense gives notice that it is renewing the charter for the Board of Visitors, Marine Corps University (hereafter referred to as the Board).

The Board is a non-discretionary Federal advisory committee that shall provide the Secretary of Defense through the Secretary of the Navy and the Commanding General, Marine Corps Combat Development Command, independent advice and recommendations on matters pertaining to:

a. U.S. Marine Corps Professional Military Education;

b. All aspects of the academic and administrative policies of the Marine Corps University (hereafter referred to as the University;

c. Higher education and standards and cost effective operations of the University; and

d. The operation and accreditation of the National Museum of the Marine Corps.

The Secretary of the Navy, unless otherwise directed by statute, may act upon the Board's advice and recommendations.

The Board shall be composed of at least nine members, who are eminent authorities in the field of education, and no more than six additional members, who are eminent authorities in the fields of study directly related to the University's mission and goals.

Board members appointed by the Secretary of Defense, who are not full-time Federal officers or employees, shall be appointed as experts and consultants under the authority of 5 U.S.C. 3109, and these individuals shall serve as special government employees. As special government employees, these individuals are appointed to provide advice on behalf of the government on the basis of their best judgment without representing any particular point of view and in a manner that is free from conflict of interest.

Board members, unless otherwise directed by the Secretary of Defense, shall be appointed by the Secretary of Defense for four-year terms, and their appointments shall be renewed on an annual basis. With the exception of travel and per diem for official travel, Board members shall serve without compensation.

The Secretary of Defense authorizes the Board's voting membership to select the Board President. The Board President is subject to annual renewal by the Secretary of Defense, shall serve a two-year term as Board President.

With the exception of the President of the Marine Corps University, no full-time or permanent part-time University employee shall serve on the Board. The Secretary of Defense authorizes the President of the Marine Corps University to serve as a non-voting ex officio member of the Board, and his membership shall not count toward the total membership.

With DoD approval, the Board is authorized to establish subcommittees, as necessary and consistent with its mission and these subcommittees shall operate under the provisions of the Federal Advisory Committee Act of 1972, the Government in the Sunshine Act of 1976 (5 U.S.C. 552b), and other appropriate Federal regulations. In addition, the Department of Defense authorizes the Board to maintain two standing subcommittees—the National Museum of the Marine Corps Subcommittee and the Executive Subcommittee.

Such subcommittees shall not work independently of the chartered Board, and shall report all their recommendations and advice to the Board for full deliberation and discussion. Subcommittees have no authority to make decisions on behalf of the chartered Board, nor can they report directly to the Department of Defense or any Federal officers or employees who are not Board members.

The Board President, unless otherwise directed by the Secretary of Defense, may select any Secretary of Defense appointed member of the Board of Visitors, Marine Corps University to serve on the Board's subcommittees. If additional subcommittee members are required, then the Board president, in consultation with the Designated Federal Officer, may request that additional members be appointed by the Department of Defense.

Subcommittee members, who are not Board members, shall be appointed in the same manner as the Board members. Such individuals, if not full-time or part-time government employees, shall be appointed to serve as experts and consultants under the authority of 5 U.S.C. 3109, and serve as special government employees, whose appointments must be renewed by the Secretary of Defense on an annual basis. With the exception of the president of the Marine Corps University, no full-time or permanent part-time University employees shall serve on any subcommittee.

Subcommittee members, unless otherwise directed by the Secretary of Defense, shall be appointed by the Secretary for four-year terms, and their appointments shall be renewed on an annual basis. With the exception of travel and per diem for official travel, subcommittee members shall serve without compensation.

The National Museum of the Marine Corps Subcommittee shall be composed of not more than five members who are eminent authorities in the fields related to museum management, including, but not limited to, areas related to: Public trust and accountability; mission and planning; leadership and organization; collections stewardship; education and interpretation; financial stability; and facilities and risk management. The membership of the National Museum of the Marine Corps Subcommittee shall be in addition to the Board's membership.

The Executive Subcommittee shall be composed of not more than four members, and these individuals shall be officers or former officers of the Board membership. Specifically, they shall be the Board's president, the President-elect, the past President, and the Secretary of the Board. The Executive Subcommittee shall meet to discuss only administrative or preparatory matters that may occur between regularly scheduled Board meetings, and do not require deliberation by the full Board membership.

The Secretary of Defense authorizes the President of the Marine Corps University to serve as a non-voting ex-officio member of the Executive Subcommittee. In addition, the Secretary of Defense authorizes the Director of the National Museum of the Marine Corps to serve as a non-voting ex officio member of the National Museum of the Marine Corps Subcommittee. These appointments shall not count toward the subcommittee's total membership.

SUPPLEMENTARY INFORMATION: The Board shall meet at the call of the Board's Designated Federal Officer, in consultation with the President of the Marine Corps University; the Commanding General, Marine Corps Combat Development Command; and the Board President. The Board shall meet at least once per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Board of Visitors, Marine Corps University membership about the Board's mission and functions. Written statements may be submitted at any time or in response to the stated agenda of planned meeting of Board of Visitors, Marine Corps University.

All written statements shall be submitted to the Designated Federal Officer for the Board of Visitors, Marine Corps University, and this individual will ensure that the written statements are provided to the membership for their consideration. Contact information for the Board of Visitors, Marine Corps University Designated Federal Officer can be obtained from the GSA's FACA Database— https://www.fido.gov/facadatabase/public.asp.

The Designated Federal Officer, pursuant to 41 CFR 102-3.150, will announce planned meetings of the Board of Visitors, Marine Corps University. The Designated Federal Officer, at that time, may provide additional guidance on the submission of written statements that are in response to the stated agenda for the planned meeting in question.

FOR FURTHER INFORMATION CONTACT: Contact Jim Freeman, Deputy Advisory Committee Management Officer for the Department of Defense, 703-601-6128.

Dated: April 12, 2011.
Morgan F. Park,
Alternate OSD Federal Register Liaison Officer, Department of Defense.

[FR Doc. 2011-9333 Filed 4-15-11; 8:45 am]

BILLING CODE 5001-06-P